DEPARTMENT OF THE INTERIOR

Bureau of Indian Affairs

[190A2100DD/AAKC001030/A0A501010.999900253G]

Indian Gaming; Approval of Tribal-State Class III Gaming Compact Amendment in the State of Oklahoma

AGENCY: Bureau of Indian Affairs, Interior.

ACTION: Notice.

SUMMARY: This notice publishes the approval of the Modification Compact for Kaw Nation/Oklahoma Off-Track Wagering Compact of May 25, 2001, between the Kaw Nation and the State of Oklahoma.

DATES: December 27, 2018.

FOR FURTHER INFORMATION CONTACT: Ms. Paula L. Hart, Director, Office of Indian Gaming, Office of the Deputy Assistant Secretary—Policy and Economic Development, Washington, DC 20240, (202) 219-4066.

SUPPLEMENTARY INFORMATION: Under section 11 of the Indian Gaming Regulatory Act (IGRA), Pub. L. 100-497, 25 U.S.C. 2701 et seq., the Secretary of the Interior shall publish in the Federal Register notice of approved Tribal-State compacts for the purpose of engaging in Class III gaming activities on Indian lands. As required by 25 CFR 293.4, all compacts and amendments are subject to review and approval by the Secretary. The Modification changes the existing off-track wagering location in the Compact from Newkirk, Oklahoma, to Braman, Oklahoma. The Secretary took no action on the compact between the Kaw Nation and the State of Oklahoma within 45 days of its submission. Therefore, the Compact is considered to have been approved, but only to the extent the Compact is consistent with IGRA. See 25 U.S.C. 2710(d)(8)(C).

Dated: December 13, 2018.
John Tahsuda,
Principal Deputy Assistant Secretary—Indian Affairs.

[FR Doc. 2018-28134 Filed 12-26-18; 8:45 am]

BILLING CODE 4337-15-P